FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than January 17, 2018.

A. Federal Reserve Bank of Minneapolis (Brendan S. Murrin, Assistant Vice President) 90 Hennepin Avenue, Minneapolis, Minnesota 55480-0291:

1. Alexandra Bosshard, Washington, DC; to both retain and acquire additional shares of Bosshard Banco, Ltd., La Crosse, Wisconsin, and thereby indirectly retain and acquire additional shares of First National Bank of Bangor, Bangor, Wisconsin, and Intercity State Bank, Schofield, Wisconsin, as a member of the Bosshard Family Group that controls Bosshard Banco, Ltd.

B. Federal Reserve Bank of Dallas (Robert L. Triplett III, Senior Vice President) 2200 North Pearl Street, Dallas, Texas 75201-2272:

1. Roy Thomas Pitcock, Jr., Graham, Texas; Medora Jacqueline Pitcock Eubank, Fort Worth, Texas; the Melissa Pitcock Trust, Graham, Texas; and Angela Allison Pitcock Adams, Aledo, Texas (together, the Pitcock Family Group); as a group acting in concert to both retain and acquire additional shares of Graham Savings Financial Corp., and thereby indirectly retain and acquire additional shares of Graham Savings and Loan SSB, both in Graham, Texas.

C. Federal Reserve Bank of Chicago (Colette A. Fried, Assistant Vice President) 230 South LaSalle Street, Chicago, Illinois 60690-1414:

1. Michael D. Werner, as trustee of the Michael D. Werner Revocable Trust, Key West, Florida; and Judith Werner, Waupun, Wisconsin; as a group acting in concert to retain voting shares of National Bancshares, Inc., and thereby indirectly retain voting shares of NBW Bank, both in Waupun, Wisconsin.

Board of Governors of the Federal Reserve System, December 27, 2017.
Ann E. Misback,
Secretary of the Board.

[FR Doc. 2017-28293 Filed 12-29-17; 8:45 am]

BILLING CODE P